DEPARTMENT OF ENERGY

Federal Energy Regulatory Commission

[Docket No.CP03-80-000]

Eastern Shore Natural Gas Company; Notice of Site Visit

June 10, 2003.

On June 24, 2003, the staff of the Office of Energy Projects and representatives of Eastern Shore Natural Gas Company (Eastern Shore) will conduct a site visit of the proposed 2003-2005 System Expansion Project in New Castle County, Delaware, and Chester County, Pennsylvania.

All interested parties may attend. Those planning to attend must provide their own transportation. Interested parties can meet staff at 8:30 a.m. on June 24, 2003, in the parking lot at the Wawa, located at the intersection of MD Route 279 (Elkton Rd.) and MD Route 277 (Fletchwood Rd.) in Cecil County, Maryland, near the Maryland-Delaware border. This is approximately 1 mile east of I-95 Exit 109.

For further information, please contact the Office of External Affairs at (202) 502-6088 or toll free at 1-866-208-3372.

Magalie R. Salas,
Secretary.

[FR Doc. 03-15171 Filed 6-16-03; 8:45 am]

BILLING CODE 6717-01-P